DEPARTMENT OF COMMERCE

International Trade Administration

[A-533-502]

Certain Welded Carbon Steel Standard Pipes and Tubes From India: Final Results of Antidumping Duty Administrative Review

AGENCY: Import Administration, International Trade Administration, Department of Commerce.

SUMMARY: On June 14, 2010, the Department of Commerce published the preliminary results of the administrative review of the antidumping duty order on certain welded carbon steel standard pipes and tubes from India. The period of review is May 1, 2008, through April 30, 2009. We gave interested parties an opportunity to comment on the preliminary results. The review covers nine manufacturer/exporters. Based on our analysis of the comments received, we have made certain changes for the final results. The final weighted-average dumping margins for the respondents are listed below in the “Final Results of the Review” section of this notice.

DATES: Effective Date: November 15, 2010.

FOR FURTHER INFORMATION CONTACT: Michael A. Romani or Minoo Hatten, AD/CVD Operations, Office 5, Import Administration, International Trade Administration, U.S. Department of Commerce, 14th Street and Constitution Avenue, NW., Washington, DC 20230; telephone (202) 482-0198 or (202) 482-1690, respectively.

Background

On June 14, 2010, the Department of Commerce (the Department) published the preliminary results of the administrative review of the antidumping duty order on certain welded carbon steel standard pipes and tubes from India. See Certain Welded Carbon Steel Standard Pipes and Tubes from India: Preliminary Results of Antidumping Duty Administrative Review, 75 FR 33578 (June 14, 2010) (Preliminary Results). The administrative review covers Jindal Pipes Limited, Lloyds Metals & Engineers Limited and Lloyds Line Pipe Ltd. (LMEL/LLPL),¹ Lloyds Steel Industries Limited (LSIL), Maharashtra Seamless Limited, Makalu Trading Pvt. Ltd., Ratnamani Metals Tubes Ltd., Universal Tube and Plastic Ind., Ushdev International Ltd., and Uttam Galva Steels Ltd.

¹ See memorandum entitled “Certain Welded Carbon Steel Standard Pipes and Tubes From India—Affiliation and Whether to Collapse Two Separate Entities” dated June 7, 2010.

Since publishing the Preliminary Results, we extended the due date for completion of these final results from October 12, 2010, to November 5, 2010. See Certain Welded Carbon Steel Standard Pipes and Tubes from India: Extension of the Final Results of Antidumping Duty Administrative Review, 75 FR 63439 (October 15, 2010).

We invited interested parties to comment on the Preliminary Results. We received timely submitted case briefs from LMEL/LLPL and LSIL. We also received a timely submitted case brief from Shamrock Building Materials, Inc., an importer of subject merchandise. Additionally, we received a timely submitted rebuttal case brief from a domestic interested party, Allied Tube and Conduit Corporation. No parties requested a hearing.

We have conducted this administrative review in accordance with section 751(a) of the Tariff Act of 1930, as amended (the Act).

Scope of the Order

The products covered by the order include certain welded carbon steel standard pipes and tubes with an outside diameter of 0.375 inch or more but not over 16 inches. These products are commonly referred to in the industry as standard pipes and tubes produced to various American Society for Testing Materials (ASTM) specifications, most notably A-53, A-120, or A-135.

The antidumping duty order on certain welded carbon steel standard pipes and tubes from India, published on May 12, 1986, included standard scope language which used the import classification system as defined by Tariff Schedules of the United States, Annotated (TSUSA). The United States developed a system of tariff classification based on the international harmonized system of customs nomenclature. On January 1, 1989, the U.S. tariff schedules were fully converted from the TSUSA to the Harmonized Tariff Schedule (HTS). See, e.g., Certain Welded Carbon Steel Standard Pipes and Tubes from India; Preliminary Results of Antidumping Duty Administrative Reviews, 56 FR 26650, 26651 (June 10, 1991). As a result of this transition, the scope language we used in the 1991 Federal Register notice is slightly different from the scope language of the original final determination and antidumping duty order.

Until January 1, 1989, such merchandise was classifiable under item numbers 610.3231, 610.3234, 610.3241, 610.3242, 610.3243, 610.3252, 610.3254, 610.3256, 610.3258, and 610.4925 of the TSUSA. This merchandise is currently classifiable under HTS item numbers 7306.30.1000, 7306.30.5025, 7306.30.5032, 7306.30.5040, 7306.30.5055, 7306.30.5085, 7306.30.5090. As with the TSUSA numbers, the HTS numbers are provided for convenience and customs purposes. The written product description remains dispositive.

Duty Absorption

As stated in the Preliminary Results, 75 FR at 33580, the Department has not conducted a duty-absorption inquiry as requested in this segment of the proceeding because the Court of Appeals for the Federal Circuit held that the Department lacks the authority to conduct such inquiries for reviews of transition orders. See FAG Italia S.p.A. v. United States, 291 F.3d 806, 819 (CAFC 2002). The order on certain welded carbon steel standard pipes and tubes from India is a transition order, having gone into effect in 1986.

Analysis of Comments Received

All issues raised in the case and rebuttal briefs by parties to this administrative review are addressed in the “Issues and Decision Memorandum for the Antidumping Duty Administrative Review of Certain Welded Carbon Steel Standard Pipes and Tubes from India for the Period of Review May 1, 2008, through April 30, 2009” (Decision Memorandum) from Susan H. Kuhbach, Acting Deputy Assistant Secretary for Antidumping and Countervailing Duty Operations, to Edward C. Yang, Acting Deputy Assistant Secretary for Import Administration, dated November 5, 2010, and hereby adopted by this notice. A list of the issues which parties have raised and to which we have responded is in the Decision Memorandum and attached to this notice as an Appendix. The Decision Memorandum, which is a public document, is on file in the Department's Central Records Unit of the main Commerce building, Room 7046, and is accessible on the Internet at http://trade.gov/ia. The paper copy and electronic version of the Decision Memorandum are identical in content.

Changes Since the Preliminary Results

Based on the analysis of comments received, we have made certain changes since the Preliminary Results. Specifically, with respect to sales by LMEL/LLPL to trading companies, for export price we used the whole gross price as reported by LMEL/LLPL. For these sales to trading companies, we did not deduct the trading-company discount from the gross unit price as we did in the Preliminary Results because the trading-company discount represents the difference in price between the value paid for the goods by the trading company and the value that the trading company invoiced the final U.S. customer under LMEL/LLPL's direction. We did not deduct bank charges from export price for some sales to Indian trading companies because these bank charges were billed to the trading company and not to LMEL/LLPL. We removed the value of a credit memo from the numerator of the warranty-expense allocation and determined the value of this credit memo to be a post-sale adjustment to export price instead of a warranty expense. For transactions involved in this credit memo we used an average export price that reflects the single per-unit price to which the parties agreed in a renegotiated sales contract. Finally, for the denominator of the warranty-expense allocation we used the total quantity of sales during the period of review instead of the total quantity of entries. See Decision Memorandum for a full discussion of the issues.

Final Results of the Review

As a result of our review, we determine that the following percentage weighted-average dumping margins exist on certain welded carbon steel standard pipes and tubes from India for the period May 1, 2008, through April 30, 2009:

Producer and/or exporter | Margin (percent)
Lloyds Metals & Engineers Limited (LMEL) and Lloyds Line Pipe Ltd. (LLPL) | 6.33
Lloyds Steel Industries Limited (LSIL) | (*)
Jindal Pipes Limited | 6.33
Maharashtra Seamless Limited | 6.33
Makalu Trading Pvt. Ltd | (**)
Ratnamani Metals Tubes Ltd | 6.33
Universal Tube and Plastic Ind | (*)
Ushdev International Ltd | (**)
Uttam Galva Steels Ltd | (**)
* No shipments or sales subject to this review. The firm has no individual rate from any segment of this proceeding.
** No shipments or sales subject to this review. This company reported that its supplier had knowledge that its merchandise was destined for the United States.

Assessment Rates

The Department shall determine, and U.S. Customs and Border Protection (CBP) shall assess, antidumping duties on all appropriate entries in accordance with 19 CFR 351.212(b)(1).

For these final results, we divided the total dumping margins (calculated as the difference between normal value and export price) for LMEL/LLPL's importers or customers by the total number of metric tons LMEL/LLPL sold to the importers or customers. We will direct CBP to assess the resulting per-metric-ton dollar amount against each metric ton of merchandise in each importer's/customer's entries during the review period. Additionally, because we have collapsed LMEL and LLPL (see Preliminary Results, 75 FR at 33581), we will instruct CBP to liquidate entries of LLPL-produced merchandise at the LMEL/LLPL rate.

The Department clarified its automatic-assessment regulation on May 6, 2003. This clarification applies to entries of subject merchandise during the period of review produced by LMEL/LLPL for which LMEL/LLPL did not know its merchandise was destined for the United States. In such instances, we will instruct CBP to liquidate unreviewed entries of merchandise produced by LMEL/LLPL at the all-others rate if there is no rate for the intermediate company(ies) involved in the transaction. For a full discussion of this clarification, see Antidumping and Countervailing Duty Proceedings: Assessment of Antidumping Duties, 68 FR 23954 (May 6, 2003) (Assessment of Antidumping Duties).

Consistent with Assessment of Antidumping Duties, for companies which claimed they had no shipments of subject merchandise to the United States, i.e., LSIL and Universal Tube and Plastic Ind., if any entries of subject merchandise produced by these entities entered into the United States during the period of review, we will instruct CBP to liquidate the unreviewed entries of merchandise at the all-others rate.

With respect to entries by companies that were not selected for individual examination, i.e., Jindal Pipes Limited, Maharashtra Seamless Limited, and Ratnamani Metals Tubes Ltd., we will instruct CBP to liquidate entries of merchandise produced and/or exported by these firms at 6.33 percent, the rate established for LMEL/LLPL. See Preliminary Results, 75 FR at 33579.

For companies which reported that their supplier (LMEL) had knowledge that its merchandise was destined for the United States, i.e., Makalu Trading Pvt. Ltd., Uttam Galva Steels Ltd., and Ushdev International Ltd., and otherwise had no shipments or sales of their own, we will instruct CBP to liquidate these entries at the assessment amounts applicable to LMEL/LLPL as discussed above.

The Department intends to issue assessment instructions to CBP 15 days after the date of publication of these final results of review.

Cash-Deposit Requirements

The following deposit requirements will be effective upon publication of these final results of administrative review for all shipments of certain welded carbon steel standard pipes and tubes from India entered, or withdrawn from warehouse, for consumption on or after the date of publication, as provided by section 751(a)(2)(C) of the Act: (1) The cash-deposit rates for companies under review will be the rates listed above; (2) for previously reviewed or investigated companies not listed above, the cash-deposit rate will continue to be the company-specific rate published for the most recent period for that company; (3) if the exporter is not a firm covered in this review, a prior review, or the less-than-fair-value investigation but the manufacturer is, the cash-deposit rate will be the rate established for the most recent period for the manufacturer of the merchandise; (4) if neither the exporter nor the manufacturer has its own rate, the cash-deposit rate will be the all-others rate for this proceeding, 7.08 percent. See Antidumping Duty Order; Certain Welded Carbon Steel Standard Pipes and Tubes from India, 51 FR 17384 (May 12, 1986). These deposit requirements shall remain in effect until further notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results in accordance with sections 751(a)(1) and 777(i) of the Act and 19 CFR 351.221(b)(5).

Dated: November 5, 2010.
Edward C. Yang,
Acting Deputy Assistant Secretary for Import Administration.

Appendix

1. Date of Sale

2. Universe of Sales

3. Adjustment to Sales Price

4. Warranty Expense

5. Trading-Company Discount

6. Bank Charges

7. Credit-Expense Period

[FR Doc. 2010-28685 Filed 11-12-10; 8:45 am]

BILLING CODE 3510-DS-P